DEPARTMENT OF HOMELAND SECURITY

Coast Guard

33 CFR Part 110

[CGD11-04-005]

RIN 1625-AA01

Special Anchorage Regulations; Long Beach, CA

AGENCY: Coast Guard, DHS.

ACTION: Notice of proposed rulemaking.

SUMMARY: The Coast Guard proposes the establishment of three special anchorage areas in Long Beach, California where vessels less than 20 meters (approximately 65 feet) in length, and barges, canal boats, scows, or other nondescript craft, would not be required to sound signals required by Rule 35 of the Inland Navigation Rules. The intended effect of these special anchorages is to reduce the risk of vessel collisions within the harbors of Los Angeles and Long Beach by grouping unmanned barges, which typically do not sound signals in reduced visibility, within specified areas and indicating these designated areas on charts. Vessels moored in these areas would not have to sound signals in restricted visibility.

DATES: Comments and related material must reach the Coast Guard on or before January 4, 2005.

ADDRESSES: You may mail comments and related material to Commanding Officer, Coast Guard Marine Safety Office/Group Los Angeles-Long Beach, 1001 South Seaside Avenue, Building 20, San Pedro, California, 90731. The Port Operations Department maintains the public docket for this rulemaking. Comments and material received from the public, as well as documents indicated in this preamble as being available in the docket, will become part of this docket and will be available for inspection or copying at Marine Safety Office/Group Los Angeles-Long Beach, 1001 South Seaside Avenue, Building 20, San Pedro, California, 90731, between 8 a.m. and 4 p.m., Monday through Friday, except Federal holidays.

FOR FURTHER INFORMATION CONTACT: Lieutenant Ryan Manning, USCG, Chief of Waterways Management Division, at (310) 732-2020.

SUPPLEMENTARY INFORMATION:

Request for Comments

We encourage you to participate in this rulemaking by submitting comments and related material. If you do so, please include your name and address, identify the docket number for this rulemaking (CGD11-04-005), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Marine Safety Office/Group Los Angeles-Long Beach at the address under ADDRESSES explaining why one would be beneficial. If we determine that one would aid this rulemaking, we will hold one at a time and place announced by a later notice in the Federal Register.

Background and Purpose

The Coast Guard proposes to establish three new special anchorage areas in Long Beach outer harbor. A “special anchorage” is an area on the water where vessels less than 20 meters (approximately 65 feet) in length, and barges, canal boats, scows, or other nondescript craft, are not required to sound signals required by rule 35 of the Inland Navigation Rules, codified at 33 U.S.C. 2035. The proposed regulations would reconfigure existing anchorages to reflect current use of the anchorage grounds. Currently, the primary users of these anchorages are unmanned barges, with the majority of them being long-term users. By establishing these areas as special anchorages, these barges would not be required to sound signals in restricted visibility as prescribed in Rule 35 of the Inland Navigation Rules. The anchorages are depicted on the local charts, are well removed from fairways and are located where general navigation will not endanger or be endangered by unmanned barges not sounding signals in restricted visibility. The proposed new special anchorages would also require modifications to two existing anchorage grounds found in 33 CFR 110.214.

Discussion of Proposed Rule

The Coast Guard proposes to establish three new special anchorage areas as follows: (B-1) Long Beach outer harbor along east side of Pier 400, (C-1) Long Beach outer harbor between Island Freeman and Island Chaffee, and (E-1) Long Beach outer harbor northwest of Island Freeman. The vessels traditionally moored in these locations are unmanned barges that have been moored for long periods of time. The proposed rule would exempt these vessels from having to sound signals during periods of reduced visibility. The proposed regulation would also modify two existing anchorage grounds found in 33 CFR 110.214.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary. This proposal will impose no cost on vessel operators, and have minimal impact to vessel traffic.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This rule will possibly affect the following entities, some of which may be small entities: The owners and operators of private and commercial vessels intending to transit or anchor in the affected area. The impact to these entities would not, however, be significant since this zone will encompass only a small portion of the waterway and vessels can safely navigate around the anchored vessels.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant Ryan Manning, Chief of Waterways Management Division, at (310) 732-2020.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(f), of the Instruction, from further environmental documentation because we are proposing to create a special anchorage area.

A draft “Environmental Analysis Check List” and a draft “Categorical Exclusion Determination” are available in the docket where indicated under ADDRESSES. Comments on this section will be considered before we make the final decision on whether the rule should be categorically excluded from further environmental review.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471, 1221 through 1236, 2030, 2035, and 2071; 33 CFR 1.05-1(g). Department of Homeland Security Delegation No. 0170.1.

2. Amend § 110.100 by adding paragraphs (c) through (f) to read as follows:

§ 110.100 Los Angeles and Long Beach Harbors, CA

* * * * *

(c) Area B-1. Long Beach outer harbor along east side of Pier 400 beginning at latitude 33°44′22.8″ N., longitude 118°13′51.0″ W.; thence south to latitude 33°43′54.5″ N., longitude 118°13′50.0″ W.; thence southwesterly to latitude 33°43′46.0″ N., longitude 118°14′13.6″ W.; thence northwesterly to latitude 33°44′15.3″ N., longitude 118°14′26.6″ W.; thence northeasterly to latitude 33°44′25.1″ N., longitude 118°14′15.6″ W.; thence easterly to the beginning point.

(d) Area C-1. Long Beach outer harbor between Island Freeman and Island Chaffee beginning at latitude 33°44′20.0″ N., longitude 118°08′26.2″ W.; thence west to latitude 33°44′23.5″ N., longitude 118°09′32.6″ W.; thence north to latitude 33°44′52.8″ N., longitude 118°09′33.2″ W.; thence southeast to latitude 33°44′25.5″ N., longitude 118°08′26.2″ W.; thence south to the beginning point.

(e) Area E-1. Long Beach outer harbor northwest of Island Freeman beginning at latitude 33°44′55.0″ N., longitude 118°09′40.0″ W.; thence southwesterly to latitude 33°44′37.0″ N., longitude 118°09′48.5″ W.; thence northwesterly to latitude 33°44′52.0″ N., longitude 118°10′32.0″ W.; thence north to latitude 33°45′11.0″ N., longitude 118°10′32.0″ W.

(f) Restrictions. Special anchorage areas B-1, C-1, and E-1 are reserved for barges on mooring balls, unless otherwise authorized by the Captain of the Port Los Angeles-Long Beach.

3. Revise § _110.214 (b)(2) and (b)(5) to read as follows:

§ 110.214 Los Angeles and Long Beach Harbors, CA

* * * * *

(b) * * *

(b)(2) Commercial Anchorage B (Long Beach Harbor). An area enclosed by a line joining the following coordinates:

| Latitude | Longitude
Beginning point | 33°44′37.0″ N. | 118°13′00.0″ W.
Thence south/southeast to | 33°44′12.0″ N. | 118°12′36.2″ W.
Thence southeast to | 33°43′38.2″ N. | 118°11′36.9″ W.
Thence southwest to | 33°43′26.1″ N. | 118°11′47.2″ W.
Thence west to | 33°43′26.1″ N. | 118°12′22.7″ W.
Thence west/southwest to | 33°42′58.9″ N. | 118°13′53.0″ W.
Thence north/northwest to | 33°43′46.0″ N. | 118°14′13.6″ W.
Thence east/northeast to | 33°43′54.5″ N. | 118°13′50.0″ W.
Thence north to | 33°44′22.8″ N. | 118°13′51.0″ W.
Thence east/northeast to the beginning point.

* * * * *

(b)(5) Commercial Anchorage E (Long Beach Harbor). An area enclosed by a line joining the following coordinates:

| Latitude | Longitude
Beginning point | 33°44′37.0″ N. | 118°09′48.5″ W.
Thence southwest to | 33°44′18.5″ N. | 118°09′56.8″ W.
Thence west to | 33°44′18.5″ N. | 118°10′27.2″ W.
Thence northwest to | 33°44′27.6″ N. | 118°10′41.0″ W.
Thence west/northwest to | 33°44′29.0″ N. | 118°10′57.4″ W.
Thence north/northwest to | 33°45′06.4″ N. | 118°11′09.5″ W.
Thence northeast to | 33°45′15.2″ N. | 118°10′46.1″ W.
Thence southeast to | 33°45′11.0″ N. | 118°10′32.0″ W.
Thence south to | 33°44′52.0″ N. | 118°10′32.0″ W.
Thence southeast to the beginning point.

* * * * *

Dated: October 25, 2004.
Kevin J. Eldridge,
Rear Admiral, U.S. Coast Guard, Commander, Eleventh Coast Guard District.

[FR Doc. 04-24687 Filed 11-4-04; 8:45 am]

BILLING CODE 4910-15-P